DEPARTMENT OF DEFENSE

Office of the Secretary

32 CFR Part 202

[DoD-2006-OS-0077; 0790-AG31]

Department of Defense Restoration Advisory Boards

Correction

In rule document 06-4246 beginning on page 27610 in the issue of May 12, 2006, make the following corrections:

1. On page 27610, in the second column, under the heading SUMMARY, in the 10th line, “regulation” should read “regulations”.

2. On the same page, in the third column, under the heading ÿ7EII. Background, in the third paragraph, in the seventh line, “reacquire” should read “require”.

3. On page 27611, in the first column, in the second full paragraph, in the ninth line, “stakeholde's” should read “stakeholder's”.

4. On page 27612, in the third column, in the second full paragraph, in the ninth line, “prgram” should read “program”.

5. On the same page, in the same column, in the same paragraph, in the second to the last line, “requrie” should read “require ”.

6. On page 27613, in the first column, in the third paragraph, in the last line, “community” should read “Community”.

7. On the same page, in the same column, under the heading ÿ7E E. 202.6. Selecting Co-Chairs, in the fourth line, “incoroporate” should read “incorporate”.

8. On the same page, in the same column, under the ÿ7Eheading F. 202.7.ÿ7E Developing Operating Procedures”, in the 10th line, “defiend” should read “defined”.

9. On the same page, in the same column, under the same heading, in the 13th line, “the” should read “The”.

10. On page 27614, in the first column, under the heading ÿ7EH. 202.9. Conducting RAB Meetingsÿ7E, in the second paragraph, in the fifth line, “comments” should read “Comments”.

11. On the same page, in the third column, in the second full paragraph, in the seventh line, “may be lead ” should read “may lead”.

§ 202.1 [Corrected]

12. On page 27618, in the second column, in §202.1(c)(7), in the third line, “governments” should read “government”.

13. On the same page, in the third column, in the same section, under paragraph (f), in the second to last line, “of” should read “or”.

§ 202.2 [Corrected]

14. On the same page, in the same column, in §202.2(a)(2), in the last line, “RAB.” should read “RAB,”.

15. On page 27619, in the first column, in the same section, under paragraph (a)(4)(v), in the last line, “installations” should read “installation's ”.

§ 202.4 [Corrected]

15. On the same page, in the second column, in §202.4(b), in the third line, “Dod” should read “DoD”.

§ 202.6 [Corrected]

16. On the same page, in the same column, in §202.6, paragraph “b.” should read “(b)”.

§ 202.9 [Corrected]

17. On the same page, in the third column, in §202.9(a), in the last line, “will” should read “shall”.

§ 202.11 [Corrected]

18. On page 27621, in the second column, in §202.11(a)(3), in the first line, “related” should read “relates ”.

[FR Doc. C6-4246 Filed 5-26-06; 8:45 am]

BILLING CODE 1505-01-D